DEPARTMENT OF COMMERCE

National Oceanic and Atmospheric Administration

[I.D. 032204I]

Magnuson-Stevens Act Provisions; General Provisions for Domestic Fisheries; Application for Exempted Fishing Permits (EFPs)

AGENCY: National Marine Fisheries Service (NMFS), National Oceanic and Atmospheric Administration (NOAA), Department of Commerce.

ACTION: Notification of a proposal for EFPs to conduct experimental fishing; request for comments.

SUMMARY: The Assistant Regional Administrator for Sustainable Fisheries, Northeast Region, NMFS (Assistant Regional Administrator) has made a preliminary determination that the subject EFP application contains all the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to recommend that an EFP be issued that would allow up to 20 commercial fishing vessels to conduct fishing operations that are otherwise restricted by the regulations governing the fisheries of the Northeastern United States. The EFP would allow for exemptions from the FMP as follows: The GOM Rolling Closure Areas; the Cashes Ledge and Western Gulf of Maine (WGOM) Closure Areas; the Days-at-Sea (DAS) notification requirements; the effort-control program (DAS); and minimum fish size restrictions for the temporary retention of undersized fish for data collection purposes.

Regulations under the Magnuson-Stevens Fishery Conservation and Management Act require publication of this notification to provide interested parties the opportunity to comment on applications for proposed EFPs.

DATES: Comments on this document must be received on or before April 13, 2004.

ADDRESSES: Comments on this notice may be submitted by e-mail. The mailbox address for providing e-mail comments is DA453@noaa.gov. Include in the subject line of the e-mail comment the following document identifier: “Comments on CCCHFA GOM Cod Tagging Study.” Written comments should be sent to Patricia A. Kurkul, Regional Administrator, NMFS, Northeast Regional Office, 1 Blackburn Drive, Gloucester, MA 01930. Mark the outside of the envelope “Comments on CCCHFA GOM Cod Tagging Study.” Comments may also be sent via facsimile (fax) to (978) 281-9135.

FOR FURTHER INFORMATION CONTACT: Brian Hooker, Fishery Management Specialist, phone 978-281-9220.

SUPPLEMENTARY INFORMATION: The Cape Cod Commercial Hook Fishermen's Association (CCCHFA) submitted an application for an EFP on March 8, 2004. The application was complete as received. The experimental fishing application requests authorization to allow the catch, tagging, and release of Atlantic cod using rod and reel only. The primary goal of the study is to provide high quality scientific data on the current distribution and movement patterns of Atlantic cod in the GOM. It is anticipated that the improved understanding of the cod stocks expected to result from this study will ultimately enable better and more effective management of the cod fishery.

The study proposes to catch, tag, and release 2,000 individual cod during 20 dedicated tagging trips, using up to 20 commercial fishing vessels. The participating vessels would catch cod using rod and reel with treble hooks eliminated from the jigs, temporarily hold cod alive in tanks aboard the vessel while processing and tagging the fish, and return the fish alive to the sea. Any other species caught would be released as soon as practicable. During the study, no fish of any species would be landed or retained for commercial sale. Cod would be tagged on dedicated tagging trips focused on, but not limited to, Jeffery's Ledge, Platt's Bank, Cashes Ledge, Massachusetts Bay, Race Point, and Cape Cod Bay. The study would likely have minimal impacts on the target species in the area due to the use of rod and reel as the catch method and efforts to minimize trauma and release all specimens alive. Tagging program staff would be on board the vessel for training purposes and to observe 20 percent of the dedicated trips to assist with tagging operations.

The research study would occur between April 15-December 31, 2004, in an area encompassed by the following coordinates: From the outer Cape Cod shoreline at 42° N lat., 70° W long.; east along 42° N lat. to 69° W long; then north along 69° W long. to 43°30' N; and then west along 43°30' N lat. to the Maine coastline.

This EFP would allow for exemptions from the Northeast (NE) Multispecies Fishery Management Plan (FMP) as follows: The GOM Rolling Closure Areas specified at 50 CFR 648.81(g)(1)(i)-(v); the Cashes Ledge and Western Gulf of Maine (WGOM) Closure Areas specified at § 648.81(h)(1) and (i)(1); the Days-at-Sea (DAS) notification requirements specified at § 648.10; the effort-control program (DAS) as specified at § 648.82(a); and minimum fish size restrictions specified at § 648.83(a) for the temporary retention of undersized fish for data collection purposes.

Authority: 16 U.S.C. 1801 et seq.

Dated: March 24, 2004.
Bruce C. Morehead,
Acting Director, Office of Sustainable Fisheries, National Marine Fisheries Service.

[FR Doc. 04-6969 Filed 3-26-04; 8:45 am]

BILLING CODE 3510-22-S